DEPARTMENT OF HOMELAND SECURITY

Coast Guard

33 CFR Part 117

[CGD05-06-82]

RIN 1625-AA-09

Drawbridge Operation Regulations; Elizabeth River, Eastern Branch, Virginia

AGENCY: Coast Guard, DHS.

ACTION: Notice of temporary deviation from regulations.

SUMMARY: The Commander, Fifth Coast Guard District, has approved a temporary deviation from the regulations governing the operation of the Berkley Bridge, at mile 0.4, across the Eastern Branch of the Elizabeth River in Norfolk, Virginia to facilitate repair and replacement of electrical and mechanical equipment. This deviation allows vessel openings of the drawbridge upon three hours advance notice each day between 9 a.m. to 3 p.m., beginning Monday, July 31, 2006 until and including Friday, August 4, 2006.

DATES: This deviation is effective from 9 a.m. on July 31, 2006, to 3 p.m. on August 4, 2006.

FOR FURTHER INFORMATION CONTACT: Gary Heyer, Bridge Management Specialist, Fifth Coast Guard District, at (757) 398-6629.

SUPPLEMENTARY INFORMATION: The Berkley Bridge, a lift-type drawbridge, has a vertical clearance in the closed position for vessels of 48 feet above mean high water. The bridge owner, the Virginia Department of Transportation, has requested a temporary deviation from the current operating regulation set out in 33 CFR 117.1007(b) and (c), to support electrical and mechanical repairs of the draw span.

To facilitate the repairs, the drawbridge will provide vessel openings upon three hours advance notice each day between 9 a.m. to 3 p.m. beginning on Monday, July 31, 2006 until and including Friday, August 4, 2006. At all other times, the drawbridge will operate in accordance with the current operating regulations outlined in 33 CFR 117.1007(b) and (c).

The Coast Guard has informed the known users of the waterway by telephone so that they can arrange their transits to minimize any impact caused by the temporary deviation. For the three-hour advance notification, mariners should contact the bridge operator on channel 13 VHF or by calling (757) 247-2133 or (757) 494-2400.

In accordance with 33 CFR 117.35(c), this work will be performed with all due speed in order to return the bridge to normal operation as soon as possible. This deviation from the operating regulations is authorized under 33 CFR 117.35.

Dated: July 25, 2006.
Waverly W. Gregory, Jr.
Chief, Bridge Administration Branch, Fifth Coast Guard District.

[FR Doc. E6-12403 Filed 8-1-06; 8:45 am]

BILLING CODE 4910-15-P